DEPARTMENT OF COMMERCE

International Trade Administration

Export Trade Certificate of Review

ACTION: Notice of issuance of an amended Export Trade Certificate of Review, Application No. 84-15A12.

SUMMARY: On October 14, 2004, the U.S. Department of Commerce issued an amended Export Trade Certificate of Review to Northwest Fruit Exporters (“NFE”).

FOR FURTHER INFORMATION CONTACT: Jeffrey C. Anspacher, Director, Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 (2003).

Export Trading Company Affairs (“ETCA”) is issuing this notice pursuant to 15 CFR 325.6(b), which requires the U.S. Department of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

Export Trade Certificate of Review No. 84-00012, was issued to NFE on June 11, 1984 (49 FR 24581, June 14, 1984) and previously amended on May 2, 1988 (53 FR 16306, May 6, 1988); September 21, 1988 (53 FR 37628, September 27, 1988); September 20, 1989 (54 FR 39454, September 26, 1989); November 19, 1992 (57 FR 55510, November 25, 1992); August 16, 1994 (59 FR 43093, August 22, 1994); November 4, 1996 (61 FR 57850, November 8, 1996); October 22, 1997 (62 FR 55783, October 28, 1997); November 2, 1998 (63 FR 60304, November 9, 1998); October 20, 1999 (64 FR 57438, October 25, 1999); October 16, 2000 (65 FR 63567, October 24, 2000); October 5, 2001 (66 FR 52111, October 12, 2001); October 3, 2002 (67 FR 62957, October 9, 2002); and September 16, 2003 (68 FR 54893, September 19, 2003).

NFE's Export Trade Certificate of Review has been amended to:

1. Add each of the following companies as a new “Member” of the Certificate within the meaning of section 325.2(1) of the Regulations (15 CFR 325.2(1)): John's Farm LLC, Brewster, Washington; Pride Packing Company, Wapato, Washington; and Sage Processing LLC, Wapato & Zillah, Washington;

2. Delete the following companies as “Members” of the Certificate: Apple Country, Inc., Wapato, Washington; Carlson Orchards, Inc., Yakima, Washington; Jenks Bros. Cold Storage & Packing, Royal City, Washington; J.C. Watson Co., Parma, Idaho; and Roy Farms, Moxee, Washington; and

3. Change the listing of the following Members: “Brewster Heights Packing, Brewster, Washington” to the new listing “Brewster Heights Packing & Orchards, LP, Brewster, Washington”; and “Chelan Fruit Company, Chelan, Washington” to the new listing “Chelan Fruit Cooperative, Chelan, Washington”.

The effective date of the amended certificate is July 14, 2004. A copy of the amended certificate will be kept in the International Trade Administration's Freedom of Information Records Inspection Facility, Room 4100, U.S. Department of Commerce, 14th Street and Constitution Avenue, NW., Washington, DC 20230.

Dated: October 15, 2004.
Jeffrey C. Anspacher,
Director, Export Trading Company Affairs.

[FR Doc. 04-23579 Filed 10-20-04; 8:45 am]

BILLING CODE 3510-DR-P